DEPARTMENT OF HOUSING AND URBAN DEVELOPMENT

[Docket No. FR-7063-N-01]

60-Day Notice of Proposed Information Collection: Memorandum of Understanding/Information Security Agreement Signature Page, OMB Control No.: Pending

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this Notice is to allow for 60 days of public comment.

DATES: Comments Due Date: October 17, 2022.

ADDRESSES: Interested persons are invited to submit comments regarding this proposal. Comments should refer to the proposal by name and/or OMB Control Number and should be sent to: Anna Guido, Management Analyst, Department of Housing and Urban Development, 451 7th Street SW, Room 4176, Washington, DC 20410-5000; telephone 202-402-5535. This is not a toll-free number. Persons with hearing or speech impairments may access this number via TTY by calling the Federal Relay Service at (800) 877-8339. This is a toll-free number. Or email at Anna.P.Guido@hud.gov for a copy of the proposed forms or other available information.

FOR FURTHER INFORMATION CONTACT: Christopher Webber, Department of Housing and Urban Development, 451 7th Street SW, Washington, DC 20410; telephone 202-402-5840. This is not a toll-free number. Persons with hearing or speech impairments may access this number via TTY by calling the Federal Relay Service at (800) 877-8339. This is a toll-free number. Copies of available documents submitted to OMB may be obtained from Anna Guido.

SUPPLEMENTARY INFORMATION: This Notice informs the public that HUD is seeking approval from OMB for the information collection described in Section A.

A. Overview of Information Collection

Title of Information Collection: Memorandum of Understanding/Information Security Agreement Signature page.

OMB Approval Number: Pending.

Type of Request: New collection.

Form Number: HUD-22015.

Description of the need for the information and proposed use: Federal policy requires agencies to develop Interconnection Security Agreements (ISAs) for federal information systems and networks that share or exchange information with external information systems and networks. Department of Housing and Urban Development (HUD) has developed its Memorandum of Understanding (MOU)/ISA template in accordance with practices outlined in Office of Management and Budget (OMB) Circular A-130, Managing Information as a Strategic Resource, and the National Institute of Standards and Technology (NIST) Special Publication (SP) 800-47, Security Guide for Interconnecting Information Technology Systems.

The information collected through this form is part of the MOU/ISA process. This process allows for HUD and external entities (people, businesses, PHAs, Tribes, etc.) to build and share application-level interfaces allowing for the exchange of data. This collection will ensure the privacy and security of data exchanged between HUD and an external entity as it will allow HUD to monitor and track who has access to HUD's data and ensure that any system requiring HUD data is internally authorized by HUD's OCIO and HUD's Office of Information Technology (IT) Security (OITS).

Estimated Number of Respondents: 30-50 per application.

Estimated Number of Responses: 60-100 per year (2 applications per year estimate).

Frequency of Response: One response every 3 years per respondent, per application.

Average Hours per Response: .5 hours.

Total Estimated Burdens: 30-50 hours per year.

B. Solicitation of Public Comment

This Notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

C. Authority

Section 3507 of the Paperwork Reduction Act of 1995, 44 U.S.C. 3507.

Dated: August 12, 2022.
Christopher Webber,
Principal Deputy Chief Information Officer.

[FR Doc. 2022-17717 Filed 8-16-22; 8:45 am]

BILLING CODE 4210-67-P